DEPARTMENT OF THE INTERIOR

Fish and Wildlife Service

[FWS-R1-R-2010-N248; 1265-0000-10137-S3]

Pearl Harbor National Wildlife Refuge, Honolulu County, HI; Final Comprehensive Conservation Plan and Finding of No Significant Impact for Environmental Assessment

AGENCY: Fish and Wildlife Service, Interior.

ACTION: Notice of availability.

SUMMARY: We, the U.S. Fish and Wildlife Service (Service), announce the availability of the final comprehensive conservation plan (CCP) and a finding of no significant impact (FONSI) for the CCP for Pearl Harbor National Wildlife Refuge (Refuge). The CCP describes how we will manage the Refuge for the next 15 years.

DATES: The FONSI was signed on September 30, 2010. The CCP and FONSI are available now. Implementation of the CCP can begin immediately.

ADDRESSES: You may view or obtain copies of the Final CCP and FONSI/EA by any of the following methods. You may request a hard copy or CD-ROM.

Agency Web site: Download a copy of the document(s) at http://www.fws.gov/pacific/planning/main/docs/HI-PI/docsjcpearl.htm.

Email: Laura_Beauregard@fws.gov. Include “Pearl Harbor final CCP” in the subject.

Mail: O`ahu National Wildlife Refuge Complex, 66-590 Kamehameha Highway, Room 2C, Hale`iwa, HI 96712.

FOR FURTHER INFORMATION CONTACT: David Ellis, Project Leader, (808) 637-6330.

SUPPLEMENTARY INFORMATION:

Introduction

With this notice, we finalize the CCP process for the Refuge. We started this process through a notice in the Federal Register (73 FR 72826; December 1, 2008). We released the Draft CCP/EA to the public, announcing and requesting comments in a notice of availability in the Federal Register (75 FR 56130; September 15, 2010).

Pearl Harbor Refuge is located on the southern coast of the island of O`ahu and is comprised of three units, the Honouliuli Unit, Waiawa Unit, and Kalaeloa Unit. The Honouliuli and Waiawa units are wetland units located on the shores of Pearl Harbor. The 37-acre Honouliuli Unit and 25-acre Waiawa Unit were established in 1972 to protect and enhance habitat for endangered Hawaiian waterbirds. Habitats found on these units include open water, freshwater marsh, mudflat, grassland, and shrubland. The units provide important breeding, feeding, and resting areas for endangered waterbirds, a variety of migratory waterfowl, shorebirds, and other wetland birds. Neither unit is open to the general public; however, a grade school wetland education program is administered under a special use permit at the Honouliuli Unit.

The 38-acre Kalaeloa Unit is a coastal unit on O`ahu's southwestern point, and was once part of the Barbers Point Naval Air Station (NAS) within the arid `Ewa Plains. When the NAS closed in 2001, the unit was established to protect and enhance habitat for the endangered `Ewa hinahina plant. The unit contains the largest remnant stand of `Ewa hinahina and a repatriated population of `akoko, another endangered plant. We manage the unit's plant populations by planting native plant species and controlling invasive plants. The unit also contains exposed ancient coral shelf, rocky shoreline, and unique anchialine pool microhabitats. These small brackish/saltwater pools are found in the raised limestone coral reef, and are connected to the ocean via tiny subterranean cracks and crevices within the coralline substrate. Anchialine pools support unique insects, plants, and animals, including two imperiled species of native shrimp. The Refuge's volunteer program includes college-level education programs and habitat restoration activities on the unit. The Kalaeloa Unit is closed to the general public.

We announce our decision and the availability of the FONSI for the final CCP for the Refuge in accordance with National Environmental Policy Act (NEPA) (40 CFR 1506.6(b)) requirements. We completed a thorough analysis of impacts on the human environment, which we included in the Draft CCP/EA.

The CCP will guide us in managing and administering the Refuge for the next 15 years. Alternative B, as we described in the final CCP, is the foundation for the CCP.

Background

The National Wildlife Refuge System Administration Act of 1966 (16 U.S.C. 668dd-668ee) (Refuge Administration Act), as amended by the National Wildlife Refuge System Improvement Act of 1997, and the Alaska National Interest Lands Conservation Act of 1980 (94 Stat. 2371; ANILCA) require us to develop a CCP for every refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Administration Act and ANILCA.

CCP Alternatives, Including Selected Alternative

We identified several issues in our Draft CCP/EA. To address the issues, we developed and evaluated two alternatives, a brief summary of each one follows.

Alternative A is the no-action alternative. Under Alternative A, we would continue current management activities. On the wetlands of the Honouliuli and Waiawa units, we would continue to control predators and manage and protect habitat for endangered Hawaiian waterbirds, as part of the Statewide effort to implement the Hawaiian Waterbird Recovery Plan. Control of invasive plant species would be modest, and intensive predator control would continue. On the Kalaeloa Unit, we would continue to restore and manage endangered plants and control invasive plants at the current level. Protection would continue for 14 existing anchialine pools on the Kalaeloa Unit, but no additional pools would be protected. We would continue to cooperate with the Bishop Museum to catalog avian and other fossil remains from the pools.

Under both alternatives entry into the fenced portions of the Refuge units would continue by special use permit. The Betty Bliss Memorial Overlook would be constructed outside of the Honouliuli Unit's fence, to provide new year-round interpretation, wildlife viewing, and photography opportunities. The coastal foot trail outside of the Kalaeloa Unit's fence would remain open to the public for shoreline fishing. Both alternatives would protect threatened and endangered species and cultural resources.

Under Alternative B, the selected alternative, we would focus management efforts at the Kalaeloa Unit on increasing the restoration of native and rare coralline plain habitat. We would increase the existing 25-acre restoration area to 37 acres. Controlling and reducing invasive plants, and establishing native plants would be emphasized. We would protect 14 existing anchialine pools, identify additional pool sites for potential restoration, and continue with translocation of endangered Hawaiian damselflies (pinapinao) to suitable habitat in the anchialine pools. We would develop a foot trail system for guided tours. We would expand volunteer, research, and environmental education opportunities, including working with partners such as the Bishop Museum and the Smithsonian Institution to pursue an in-depth paleontological study of the entire unit.

On the Honouliuli and Waiawa units, under Alternative B, we would increase wetland management to improve the units' overall capacity to support endangered waterbirds. Water level and vegetation management and invasive species control, including predator control, would be improved as part of the Statewide effort to implement the Hawaiian Waterbird Recovery Plan. On the Honouliuli Unit we would remove exotic mangrove on 5 acres to improve and maintain intertidal mudflat habitat. We would also determine the feasibility of installing a predator-proof fence. At the Waiawa Unit we would work with partners and neighbors to determine the feasibility of developing an additional overlook.

Comments

We solicited comments on the Draft CCP/EA from August 16, 2010, to September 15, 2010. We received 2 comment letters on the Draft CCP/EA during the review period. We incorporated these comments into the CCP when possible, and we responded to the comments in an appendix to the CCP.

Selected Alternative

After considering the comments we received, we selected Alternative B for implementation. Under the selected alternative we will:

• Increase rare coralline plain habitat restoration at the Kalaeloa Unit.

• Control and reduce invasive plants and establish native plants.

• Develop a foot trail system for guided tours.

• Protect 14 existing anchialine pools, identify additional pool sites for potential restoration, and continue translocating endangered Hawaiian damselflies (pinapinao) to suitable habitat in the anchialine pools.

• Expand volunteer, research, and environmental education opportunities, including working with partners.

• Increase our level of wetland management on the Honouliuli and Waiawa units to improve the units' overall capacity to support endangered waterbirds.

• Improve water level and vegetation management, and invasive species control, including predator control, as part of the Statewide effort to implement the Hawaiian Waterbird Recovery Plan.

• Remove exotic mangrove on 5 acres of the Honouliuli Unit to improve and maintain intertidal mudflat habitat.

• Determine the feasibility of installing a predator-proof fence.

• Work with partners and neighbors on the Waiawa Unit to determine the feasibility of developing an additional overlook.

Public Availability of Documents

In addition to the methods in ADDRESSES, you can view or obtain documents on our Web site at http://www.fws.gov/pearlharbor/planning.html, and at the following libraries during regular library hours: Hawai`i State Library, 478 S. King St., Honolulu, HI 96813, telephone number (808) 586-3500; and Pearl City Public Library, 1138 Waimano Home Road, Pearl City, HI 96782, telephone number (808) 453-6566.

Dated: November 4, 2011.
Robyn Thorson,
Regional Director, Region 1, Portland, Oregon.

[FR Doc. 2011-29795 Filed 11-17-11; 8:45 am]

BILLING CODE 4310-55-P